DEPARTMENT OF COMMERCE

International Trade Administration

[A-533-838]

Carbazole Violet Pigment 23 From India: Final Results of Antidumping Duty New Shipper Review; 2021-2022

AGENCY: Enforcement and Compliance, International Trade Administration, Department of Commerce.

SUMMARY: The U.S. Department of Commerce (Commerce) has conducted a new shipper review (NSR) of Sudarshan Chemical Industries Limited (Sudarshan) regarding the antidumping duty order on carbazole violet pigment 23 from India (CVP-23). The period of review (POR) is December 1, 2021, through November 30, 2022. Based on our analysis, Commerce finds that Sudarshan did not make sales of subject merchandise at less than normal value during the POR.

DATES: Applicable March 27, 2024.

FOR FURTHER INFORMATION CONTACT: Dennis McClure at (202) 482-5973 or Henry Wolfe at (202) 482-0574, AD/CVD Operations, Office VIII, Enforcement and Compliance, International Trade Administration, U.S. Department of Commerce, 1401 Constitution Avenue NW, Washington, DC 20230.

SUPPLEMENTARY INFORMATION:

Background

On November 24, 2023, Commerce published in the Federal Register its preliminary results and indicated that interested parties will be notified of the deadline for the submission of case briefs at a later date.¹ Because Commerce received no comments from any interested party, no decision memorandum accompanies this notice. The deadline for these final results has been extended by 57 days to April 12, 2024.²

¹ See Carbazole Violet Pigment 23 from India: Preliminary Results of New Shipper Review; 2021-2022, 88 FR 82316, 82317 (November 24, 2023) (Preliminary Results), and accompanying Preliminary Decision Memorandum; see also Memorandum, “Establishment of the Briefing Schedule,” dated February 2, 2024.

² See Memorandum, “Extension of Deadline for Final Results of Antidumping Duty New Shipper Review,” dated January 31, 2023.

Commerce conducted this review in accordance with section 751(a)(2)(B) of the Tariff Act of 1930, as amended (the Act).

Scope of the Order ³

³ See Notice of Amended Final Determination of Sales at Less Than Fair Value and Antidumping Duty Order: Carbazole Violet Pigment 23 from India, 69 FR 77988 (December 29, 2004) (Order).

The product covered by the Order is carbazole violet pigment 23. The merchandise subject to the Order is classifiable under subheading 3204.17.9040 of the Harmonized Tariff Schedule of the United States (HTSUS). Although the HTSUS subheading is provided for convenience and customs purposes, our written description of the scope of this Order is dispositive. For a full description of the scope of the Order, see the Preliminary Results.

Verification

Commerce verified Sudarshan's questionnaire responses between November 30 and December 8, 2023.⁴ We used standard verification procedures, including an examination of relevant sales and accounting records, and original source documents provided by Sudarshan.

⁴ See Memorandum, “Sales and Cost Verification Report for Sudarshan Chemical Industries Limited and Sudarshan North America,” dated January 31, 2024.

Changes Since the Preliminary Results

Based on its findings at verification, Commerce made several changes to the Preliminary Results. A summary of these changes, which are fully described in the Calculation Memorandum,⁵ is as follows:

⁵ See Memorandum, “Final Determination Margin Calculation for Sudarshan Chemical Industries Limited,” dated concurrently with this notice (Calculation Memorandum).

• Commerce revised the U.S. and comparison market sales databases consistent with the minor corrections provided by Sudarshan at verification.⁶

⁶ See Sudarshan's Letter, “Minor Corrections,” dated December 4, 2023, at Exhibits 2 and 3.

• For comparison market sales, Commerce revised the reported indirect selling expenses to include certain expenses previously incorrectly reported as general and administrative (G&A) expenses. Commerce also revised the reported inventory carrying costs to use the corrected total cost of manufacturing.⁷

⁷ See Calculation Memorandum at 2.

• With respect to the reported cost data, Commerce revised the G&A expense ratio to exclude certain incorrectly reported expenses. Commerce also revised the interest expense ratio to include the net consolidated foreign exchange amount.⁸

⁸ Id. at 3.

• For U.S. sales, Commerce recalculated foreign market indirect selling expenses to reflect the currency in which they were incurred (i.e., Indian rupees). Commerce revised the indirect selling expenses incurred in the United States to include expenses that were previously incorrectly excluded. Additionally, Commerce added the countervailing duties for export subsidies on U.S. sales of CVP-23. Commerce also revised the reported inventory carrying costs incurred in the United States to use the transfer price of CVP-23 between Sudarshan and its United States subsidiary, Sudarshan North America. Further, Commerce revised the inventory carrying costs incurred in the country of manufacture to use the corrected total cost of manufacturing.⁹

⁹ Id. at 3 to 5.

Final Results of Review

As a result of this new shipper review, Commerce determines that the following weighted-average dumping margin exists for the POR December 1, 2021, through November 30, 2022:

Producer and exporter | Weighted- average dumping margin (percent)
Sudarshan Chemical Industries Limited | 0.00

Disclosure

Consistent with 19 CFR 351.224(b), Commerce intends to disclose to interested parties the calculations performed in connection with these final results of review within five days of after the date of publication of this notice in the Federal Register.

Assessment Rates

Commerce has determined, and U.S. Customs and Border Protection (CBP) shall assess, antidumping duties on all appropriate entries covered by this review.¹⁰ Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

¹⁰ See 19 CFR 351.212(b)(1).

Pursuant to 19 CFR 351.212(b)(1), because Sudarshan's weighted-average dumping margin is zero, Commerce will instruct CBP to liquidate the appropriate entries without regard to antidumping duties.¹¹

¹¹ See Antidumping Proceedings: Calculation of the Weighted-Average Dumping Margin and Assessment Rate in Certain Antidumping Proceedings; Final Modification, 77 FR 8101, 8102 (February 14, 2012).

Cash Deposit Requirements

The following cash deposit requirements will be effective upon publication of the final results of this review for shipments of the subject merchandise from India entered, or withdrawn from warehouse, for consumption on or after the publication date, as provided by section 751(a)(2)(C) of the Act: (1) for subject merchandise produced and exported by Sudarshan, no cash deposit will be required; ¹² (2) for subject merchandise exported, but not produced by Sudarshan, the cash deposit rate will be the producer's rate, or the all-others rate (i.e., 27.48 percent) ¹³ if the producer does not have its own rate; and (3) for subject merchandise produced, but not exported by Sudarshan, the cash deposit rate will be the rate applicable to the exporter, or the all others rate if the exporter does not have its own rate. These cash deposit requirements, when imposed, shall remain in effect until further notice.

¹² Commerce established a combination cash deposit rate for this company, consistent with its practice in new shipper reviews. See, e.g., Certain Cut-To-Length Carbon-Quality Steel Plate Products from the Republic of Korea: Preliminary Results of Antidumping Duty Administrative and New Shipper Reviews and Rescission of Administrative Review, In Part; 2014-2015, 81 FR 12870, 12871 (March 11, 2016).

¹³ See Order, 69 FR at 77989.

Notification to Importers

This notice serves as a final reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties, and/or increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

Commerce is issuing and publishing these final results of the new shipper review in accordance with sections 751(a)(2)(B) and 777(i)(1) of the Act, and 19 CFR 351.214(h)(2).

Dated: March 21, 2024.
Ryan Majerus,
Deputy Assistant Secretary for Policy and Negotiations, performing the non-exclusive functions and duties of the Assistant Secretary for Enforcement and Compliance.

[FR Doc. 2024-06523 Filed 3-26-24; 8:45 am]

BILLING CODE 3510-DS-P